DEPARTMENT OF DEFENSE

Office of the Secretary

[Docket ID DOD-2018-OS-0048]

Proposed Collection; Comment Request

AGENCY: Office of the Under Secretary of Defense for Personnel and Readiness, DoD.

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 1, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OUSD (Personnel and Readiness) Office of Total Force Planning & Requirements, ATTN: Mr. Thomas Hessel, 4000 Pentagon, Washington, DC 20301, or call (703) 697-3402.

SUPPLEMENTARY INFORMATION: Title; Associated Form; and OMB Number: DoD Enterprise-Wide Contractor Manpower Reporting Application (ECMRA); OMB Control Number 0704-0491.

Needs and Uses: This information collection is necessary to achieve the collection of direct labor hours and associated costs in order to meet the requirements set for the DoD by section 2330a of Title 10, United States Code. Furthermore, ECMRA collections enable DoD organizations to understand the extent of contracted support, the associated level of effort in achieving mission, the reliance on contracted services necessary to facilitate their workforce planning processes, and to support statutory requirements set forth in sections 115a, 129a, 235, 2461, and 2463 of Title 10, United States Code.

Affected Public: Businesses or Other For-Profit.

Annual Burden Hours: 583.33 hours.

Number of Respondents: 7,000.

Responses per Respondent: 1.

Annual Responses: 7,000.

Average Burden per Response: 5 minutes.

Frequency: Annually.

Dated: July 26, 2018.
Shelly E. Finke,
Alternate OSD Federal Register, Liaison Officer, Department of Defense.

[FR Doc. 2018-16303 Filed 7-30-18; 8:45 am]

BILLING CODE 5001-06-P